DEPARTMENT OF COMMERCE

National Oceanic and Atmospheric Administration

50 CFR Part 679

[Docket Number: 240916-0239]

RIN 0648-BN21

Fisheries of the Exclusive Economic Zone Off Alaska; Amendment 80 Sector Annual BSAI Pacific Halibut PSC Limits; Correction

AGENCY: National Marine Fisheries Service (NMFS), National Oceanic and Atmospheric Administration (NOAA), Commerce.

ACTION: Correcting amendment.

SUMMARY: On November 24, 2023, NMFS published a final rule to implement amendment 123 to the Fishery Management Plan (FMP) for Groundfish of the Bering Sea and Aleutian Islands (BSAI) Management Area (BSAI FMP). The final rule included a formatting error in table 58 that caused the column headings to be incorrectly aligned with the column contents in the table. This correction fixes the error.

DATES: Effective on September 20, 2024.

FOR FURTHER INFORMATION CONTACT: Alicia M. Miller, 907-586-7228.

SUPPLEMENTARY INFORMATION: On November 24, 2023, NMFS published a final rule to implement amendment 123 to the BSAI FMP (88 FR 82740). That final rule added table 58 to part 679 (Amendment 80 Sector Annual BSAI Pacific Halibut Prohibited Species Catch (PSC) Limits) to establish the International Pacific Halibut Commission (IPHC) index and the NMFS Eastern Bering Sea (EBS) index ranges in a table with the corresponding PSC limit at the intercepts of each index range. The final rule included an error in the formatting of table 58 to part 679 that caused the column headings to be incorrectly aligned with the column contents. This correction fixes the error.

Classification

Pursuant to 5 U.S.C. 553(b)(B), the Assistant Administrator for Fisheries, NOAA, finds good cause to waive prior notice and opportunity for additional public comment because it would be unnecessary and contrary to the public interest. This correcting amendment corrects the formatting of table 58 to part 679 as depicted in the Federal Register and does not substantively change the contents of the table. The public was provided prior notice and comment on the proposed table as well as all supporting documents, which included the correctly formatted table with the column headings properly aligning with the column contents in table 58 to part 679. Therefore, providing prior notice and opportunity for public comment on this correction is unnecessary and contrary to the public interest because this is a non-substantive change and retaining the incorrect formatted table may cause confusion.

For the reasons stated above, the Assistant Administrator also finds good cause, pursuant to 5 U.S.C. 553(d), to waive the 30-day delay in effective date for this correcting amendment (i.e., it is unnecessary and contrary to the public interest since it is a non-substantive change, the public was provided prior notice and comment on the correctly formatted proposed table 58 to part 679).

Because prior notice and opportunity for public comment are not required for this rule by 5 U.S.C. 553, or any other law, the analytical requirements of the Regulatory Flexibility Act, 5 U.S.C. 601 et seq., are inapplicable.

This final rule has been found to be not significant pursuant to E.O. 12866.

List of Subjects for 50 CFR Part 679

Alaska, Fisheries, Reporting and recordkeeping requirements.

Dated: September 16, 2024.
Samuel D. Rauch, III,
Deputy Assistant Administrator for Regulatory Programs, National Marine Fisheries Service.

For the reasons set out in the preamble, NMFS corrects 50 CFR part 679 by making the following correcting amendment:

PART 679—FISHERIES OF THE EXCLUSIVE ECONOMIC ZONE OFF ALASKA

1. The authority citation for part 679 continues to read as follows:

Authority: 16 U.S.C. 773 et seq.; 1801 et seq.; 3631 et seq.; Pub. L. 108-447; Pub. L. 111-281.

2. Revise table 58 to part 679 to read as follows:

Table 58 to Part 679—Amendment 80 Sector Annual BSAI Pacific Halibut PSC Limits
| Survey index ranges | Eastern Bering Sea shelf trawl survey index (t): Low <150,000 | Eastern Bering Sea shelf trawl survey index (t): High ≥150,000
IPHC setline survey index in Area 4ABCDE (WPUE) | High ≥11,000 | 1,745 mt | 1,745 mt
| Medium 8,000-10,999 | 1,396 mt | 1,571 mt
| Low 6,000-7,999 | 1,309 mt | 1,396 mt
| Very Low <6,000 | 1,134 mt | 1,134 mt

[FR Doc. 2024-21516 Filed 9-19-24; 8:45 am]

BILLING CODE 3510-22-P